DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed new information collection. In accordance with the Paperwork Reduction Act of 1995, this notice seeks comments concerning a survey of property owners in communities with high densities of disaster recipients to identify flood insurance purchasing patterns and develop strategies to improve overall compliance with flood insurance regulations.

SUPPLEMENTARY INFORMATION: The 1994 National Flood Insurance Act requires flood victims in Federally declared disaster areas to purchase flood insurance as a condition of Federal financial assistance if their property is located in a Special Flood Hazard Area (SFHA). This flood insurance coverage must be maintained for the life of a property loan or if an Individual and Household Program (IHP) grant is received, funds to cover the insurance for three years are deducted from the grant. Following the three-year, grant recipients must maintain their insurance coverage. If these victims do not comply with these requirements, they will not be eligible for future Federal disaster assistance. Flood insurance compliance among victims of federally declared flood events appears to be problematic. FEMA post-disaster records indicate that a significant number of flood-damaged structures, located both in and outside SFHAs, have either (a) never had flood insurance, or (b) purchased flood insurance but did not maintain the policies.

Collection of Information

Title: Flood Insurance Policy Acquisition and Retention Among Recipients of Federal Assistance Study.

Type of Information Collection: New Collection.

OMB Number: 1660-NW19.

Form Numbers: None.

Abstract: This survey will collect information on flood insurance purchasing patterns among property owners in communities with high densities of disaster recipients. Data findings will be used to develop strategies to improve compliance with flood insurance regulations.

Affected Public: Individuals and Households.

Estimated Total Annual Burden Hours: 400 hours.

Annual Burden Hours
Project/Activity (survey, form(s), focus group, worksheet, etc.) | No. of respondents: (A) | Frequency of responses: (B) | Burden hours per respondent: (C) | Annual responses: (A×B) | Total annual burden hours: (A×B×C)
Telephone Survey | 1,200 | 1 | .33 hr (20 min) | 1,200 | 400
Total | 1,200 | 1 | .33 | 1,200 | 400

Estimated Cost: $5,592.00 for all respondents combined, based on the 2004 Bureau of Labor Statistics national median hourly rate of $13.98. Average cost to respondents is approximately $4.62 based on a response time of 20 minutes or .33 hours.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before March 20, 2006.

ADDRESSES: Interested persons should submit written comments to Chief, Records Management Section, Information Resources Management Branch, Information Technology Services Division, Federal Emergency Management Agency, 500 C Street, SW., Room 316, Washington, DC 20472.

FOR FURTHER INFORMATION CONTACT: Contact David C. Thomas, Acting Chief, Risk Management Section at (202) 646-3842 for additional information. You may contact the Records Management Branch for copies of the proposed collection of information at facsimile number (202) 646-3347 or e-mail address: FEMA-Information-Collections@dhs.gov.

Dated: December 12, 2005.
Darcy Bingham,
Branch Chief, Information Resources Management Branch, Information Technology Services Division.

[FR Doc. E6-528 Filed 1-18-06; 8:45 am]

BILLING CODE 9110-13-P